DEPARTMENT OF TRANSPORTATION

Federal Aviation Administration

Noise Exposure Map Notice for San Carlos Airport, San Carlos, California

AGENCY: Federal Aviation Administration, DOT.

ACTION: Notice.

SUMMARY: The Federal Aviation Administration (FAA) announces its determination that the noise exposure maps submitted by the County of San Mateo for San Carlos Airport are in compliance with applicable requirements.

DATES: The effective date of the FAA's determination on the noise exposure maps is April 23, 2019.

FOR FURTHER INFORMATION CONTACT: Camille Garibaldi, Environmental Protection Specialist, SFO-613, Federal Aviation Administration, San Francisco Airports District Office, 1000 Marina Boulevard, Suite 220, Brisbane, California 94005-1835; or by telephone at (650) 827-7613.

SUPPLEMENTARY INFORMATION: This notice announces that the FAA finds that the noise exposure maps submitted for San Carlos Airport are in compliance with applicable requirements of 14 Code of Federal Regulations (CFR) Part 150 (hereinafter referred to as “Part 150”), effective April 23, 2019. Under 49 U.S.C. 47503 of the Aviation Safety and Noise Abatement Act (hereinafter referred to as “the Act”), an airport operator may submit to the FAA noise exposure maps which meet applicable regulations and which depict non-compatible land uses as of the date of submission of such maps, a description of projected aircraft operations, and the ways in which such operations will affect such maps. The Act requires such maps to be developed in consultation with interested and affected parties in the local community, government agencies, and persons using the airport. An airport operator who has submitted noise exposure maps that are found by FAA to be in compliance with the requirements of Part 150, promulgated pursuant to the Act, may submit a noise compatibility program for FAA approval which sets forth the measures the operator has taken or proposes to take to reduce existing non-compatible uses and prevent the introduction of additional non-compatible uses.

The FAA has completed its review of the noise exposure maps and accompanying documentation submitted by County of San Mateo. The documentation that constitutes the “Noise Exposure Maps” as defined in section 150.7 of Part 150 includes: Exhibit 1 the existing condition—2017 Noise Exposure Map and Exhibit 2 the future 5-year forecast—2022 Noise Exposure Map. The Noise Exposure Maps contain current and forecast information including the depiction of the airport and its boundary; the runway configuration, land uses such as residential, commercial, industrial, and open space/recreational land use; locations of noise sensitive public buildings (such as schools, hospitals, and historic properties on or eligible for the National Register of Historic Places); and the Community Noise Equivalent Level (CNEL) 65, 70, and 75 decibel airport noise contours resulting from existing and forecast airport operations. The frequency of airport operations is described in Chapter 2 of the Noise Exposure Map report. Flight tracks associated with San Carlos Airport are depicted in Exhibits 2C through 2F. The San Carlos Airport noise measurement program is described in Chapter 2 and monitor locations are shown on Exhibit 2K of the report. Estimates of the number of people residing within the CNEL contours is located in Chapter 3, Table 3A of the Noise Exposure Map report. The FAA has determined that these noise exposure maps and accompanying documentation are in compliance with applicable requirements. This determination is effective on April 23, 2019.

FAA's determination on an airport operator's noise exposure maps is limited to a finding that the maps were developed in accordance with the procedures contained in Appendix A of Part 150. Such determination does not constitute approval of the applicant's data, information or plans, or a commitment to approve a noise compatibility program or to fund the implementation of that program. If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under Part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under section 150.21 of Part 150, that the statutorily required consultation has been accomplished.

Copies of the full noise exposure map documentation and of the FAA's evaluation of the maps are available for examination at the following locations:

Federal Aviation Administration, Western-Pacific Region, Office of Airports, 777 S Aviation Blvd., Suite 150, El Segundo, CA 90245

Federal Aviation Administration, San Francisco Airports District Office, 1000 Marina Boulevard, Suite 220, Brisbane, CA 94005-1835

San Mateo County Airports Division, San Carlos Airport, 620 Airport Drive, Suite 10, San Carlos, CA 94070-2714

Questions may be directed to the individual named above under the heading FOR FURTHER INFORMATION CONTACT.

Issued in El Segundo, California on May 6, 2019.
Arlene B. Draper,
Acting Director, Office of Airports, Western-Pacific Region, AWP-600.

[FR Doc. 2019-09957 Filed 5-14-19; 8:45 am]

BILLING CODE 4910-13-P